DEPARTMENT OF THE INTERIOR

National Park Service

[NPS-WASO-NRNHL-DTS#-38213; PPWOCRADI0, PCU00RP14.R50000]

National Register of Historic Places; Notification of Pending Nominations and Related Actions

AGENCY: National Park Service, Interior.

ACTION: Notice.

SUMMARY: The National Park Service is soliciting electronic comments on the significance of properties nominated before June 22, 2024, for listing or related actions in the National Register of Historic Places.

DATES: Comments should be submitted electronically by July 17, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 22, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

ALABAMA

Montgomery County

Moore Building, (The Civil Rights Movement in Montgomery, Alabama, 1850-1984 MPS), 217 S Court St., Montgomery, MP100010582

COLORADO

Denver County

Fire Station No. 3, 2500 Washington Street, Denver, SG100010578

Otero County

Valley View-Hillcrest Cemetery, 37980 County Road 20, Rocky Ford, SG100010592

KANSAS

Montgomery County

Prairie Oil & Gas Building, 200 Arco Place (300 West Myrtle Street), Independence, SG100010595

LOUISIANA

Caddo Parish

Cross Lake Pumping and Filtration Plant, 3205 Blanchard Road, Shreveport, SG100010600

East Baton Rouge Parish

Old South Baton Rouge Historic District, Neighborhood roughly bound by Interstate 10 (north and east), West Roosevelt Street (south), Nicholson Drive (west), Baton Rouge, SG100010599

MISSISSIPPI

Hinds County

505-507-509 North Farish Street, 505-507-509 North Farish Street, Jackson, SG100010598

PENNSYLVANIA

Allegheny County

Clayton-Frick Art Museum Historic District, 7227 Reynolds Street, Pittsburgh, SG100010583

Bucks County

Otto Eisenlohr and Bros Cigar Factory, 35 Maple Ave., Sellersville, SG100010584

Delaware County

Sacred Heart General Hospital, 2600 W 9th Street, Chester, SG100010576

Philadelphia County

Keystone Mill, 201 Leverington Avenue, Philadelphia, SG100010575

Southwark Municipal Piers, 775 S Christopher Columbus Blvd., Philadelphia, SG100010585

TEXAS

Lamar County

Mt. Canaan Baptist Church, 60 Sycamore St., Paris, SG100010581

WEST VIRGINIA

Cabell County

14th Street West Historic District, Roughly bounded by Madison Ave, Virginia Avenue, 15th Street West, and 13th Street West, Huntington, SG100010590

Marshall University Memorial Fountain, 1 John Marshall Drive, Huntington, SG100010591

Jefferson County

Woodbyrne, 219 Ann Lewis Road, Charles Town, SG100010589

Morgan County

Paw Paw Black School, 149 North Amelia Street, Paw Paw, SG100010588

WISCONSIN

Dane County

Italian Workmen's Club, 914 Regent Street, Madison, SG100010597

Additional documentation has been received for the following resource(s):

ALABAMA

Colbert County

Memphis & Charleston Railroad Bridge (Additional Documentation), 2106 Ashe Boulevard, Sheffield, AD100010428

COLORADO

Denver County

Nurses' Home, 871 N Bellaire St., Denver, AD100009567

DISTRICT OF COLUMBIA

District of Columbia

Wheatley, Phillis, YWCA (Additional Documentation), 901 Rhode Island Ave. NW, Washington, AD83003532

TENNESSEE

Davidson County

Tulip Grove, 4744 Rachels Lane, Hermitage, AD70000607

Grainger County

Tate Springs Springhouse (Additional Documentation), 151 Kingswood Way, Bean Station vicinity, AD73001768

Knox County

Knox County Courthouse (Additional Documentation), 300 Main Street SW, Knoxville, AD73001803

Maury County

Mayes-Hutton House (Additional Documentation), 306 W 6th St., Columbia, AD70000614

St. John's Episcopal Church (Additional Documentation), 6497 Trotwood Avenue, Columbia vicinity, AD70000615

Athenaeum, The (Additional Documentation), 808 Athenaeum St., Columbia, AD73001809

Nomination(s) submitted by Federal Preservation Officers:

The State Historic Preservation Officer reviewed the following nomination(s) and responded to the Federal Preservation Officer within 45 days of receipt of the nomination(s) and supports listing the properties in the National Register of Historic Places.

PENNSYLVANIA

Cambria County

Johnstown Flood National Memorial, 733 Lake Road, Adams, SG100010579

Authority: Section 60.13 of 36 CFR part 60.

Sherry A. Frear,
Chief, National Register of Historic Places/National Historic Landmarks Program.

[FR Doc. 2024-14506 Filed 7-1-24; 8:45 am]

BILLING CODE 4312-52-P